DEPARTMENT OF AGRICULTURE

Office of the Assistant Secretary for Civil Rights; Notice of Intent To Seek Approval of a New Information Collection

AGENCY: Office of the Assistant Secretary for Civil Rights, U.S. Department of Agriculture.

ACTION: Notice; request for comments.

SUMMARY: In accordance with the Paperwork Reduction Act of 1995, the Office of the Assistant Secretary for Civil Rights (OASCR) is seeking comments from all interested individuals and organizations on a new information collection. This notice announces the OASCR's intention to request approval for a new information collection aimed at standardizing and consolidating the race, ethnicity, sex, national origin, disability and age (RESNODA) data for agencies within the U.S. Department of Agriculture (USDA) that serve agricultural producers and landowners. This information collection will assist the USDA agencies in the compilation of program application and participation rate data for socially disadvantaged farmers or ranchers for programs that serve agricultural producers and landowners. USDA continues to seek ways to improve delivery of program services and benefits, fulfill various civil rights responsibilities, and increase participation for those who are eligible to receive benefits and assistance.

DATES: We will consider comment that we receive by July 13, 2009.

ADDRESSES: We invite you to submit comments on this notice. In your comment, include date, and page number of this issue of the Federal Register. You may submit comments by any of the following methods:

• E-mail: Send comments to: Rhonda.davis@usda.gov.

• Mail: Ms. Rhonda Davis, Director, Planning, Performance and Accountability Division, OASCR, USDA, 1400 Independence Avenue, SW., Mailstop 9475, Washington, DC 20250.

You may also send comments to the Desk Officer for Agriculture, Office of Information and Regulatory Affairs, Office of Management and Budget, Washington, DC 20503.

FOR FURTHER INFORMATION CONTACT: Rhonda Davis, Director, Planning, Performance and Accountability Division, phone (202) 720-1010.

SUPPLEMENTARY INFORMATION:

Background

Section 14006 of the Food, Conservation and Energy Act of 2008 (2008 Farm Bill; Pub. L. 110-246) requires the Secretary of Agriculture to compile program application and participation rate data on socially disadvantaged farmers or ranchers by race, ethnicity, and gender. The collection of data is necessary to provide USDA with the composition of its constituents, particularly from a race and ethnicity standpoint. Further, data is necessary to give USDA a baseline on its applicants and participants and assist it in planning and assisting its constituents.

The goal of a farm program focused collection of RESNODA data is to reduce the burden on citizens to provide this type of information by creating a single voluntary survey transaction where the data is collected, one time in a standard format. For subsequent transactions where this information is needed to report on application or participation rates or to improve program participation, the Department will provide the opportunity for the applicant or participant to revise their data. If no revisions are made, USDA will reuse the data previously collected.

This information collection request is intended over a period time to consolidate a number of agency collections of RESNODA data and to minimize the number of separate forms and transactions required to obtain USDA services, thereby reducing the burden in collecting this information from the public.

When collected manually, a paper form will be used in conjunction with the appropriate program application form as a tear-off where the application for services will be electronically transmitted to the appropriate agency for action, and information from the paper form will be electronically transmitted to a Departmental repository to be used in subsequent customer transactions and for applicable Civil Rights analysis and reporting. The electronically collected data will reside in an enterprise database.

While the demographic data will be available for management reporting purposes to comply with section 14006 of the 2008 Farm Bill, a flag would graphically indicate to USDA employees that the information had been previously collected. The privacy of the data will be protected. The existing customer data Systems of Record will be modified or created if applicable to meet the Privacy Act requirement.

Description of Information Collection

Title: Customer Information.

OMB Number: 0503-NEW.

Type of Request: New information collection.

Abstract: The purpose of the collection is to enable the agency heads to report annually to the Secretary of Agriculture on the collection of RESNODA data for all USDA farm programs, and to further ensure that this information is collected only once for each customer. When established, this information will assist OASCR and USDA agencies in assessing farm programs for each county and State in the United States based on program application and participation rate data for agricultural producers and landowners.

Estimate of Burden: For the initial collection of RESNODA data, the estimated burden is 3 minutes per response either collected manually through a Departmental form or collected electronically through the USDA.gov web portal.

Estimated Number of Respondents: The Department estimates 14,000,000 constituents subject to the collection of RESNODA data.

Estimated Number of Responses per Respondent: 1.

Estimated Total Annual Burden on Respondents: 700,000 hours.

We are requesting comments on all aspects of this information collection including the following to help us:

(1) Evaluate whether the proposed collection of information is necessary for the proper performance of the functions of the Department, including whether the information will have practical utility;

(2) Evaluate the accuracy of the agency's estimate of burden of the proposed collection of information, including the validity of methodology and assumptions used;

(3) Enhance the quality, utility, and clarity of the information to be collected; and

(4) Minimize the burden of the collection of information on those who are to respond, including the use of appropriate, automated, electronic, mechanical or other technology.

All responses to this notice will be summarized and included in the request for OMB approval. All comments will also become a matter of public record.

Summary of 2004 Comments

A previous notice requesting comments on this information collection request was published in the Federal Register on June 23, 2004 (69 FR 34990-34991). The 60-day comment period for the notice closed on August 23, 2004; 6 comments were received. The scope of the request for information collection approval has been narrowed to initially focus on information collected by the three service center agencies, the Farm Service Agency (FSA), the National Resources Conservation Service (NRCS), and Rural Development (RD). None of the comments addressed any issues related to information collection by FSA, NRCS, or RD.

Signed at Washington, DC on May 7, 2009.
Joe Leonard, Jr.,
Assistant Secretary for Civil Rights.

[FR Doc. E9-11109 Filed 5-12-09; 8:45 am]

BILLING CODE 3410-98-P